DEPARTMENT OF COMMERCE

National Oceanic and Atmospheric Administration

RIN 0648-XD291

Pacific Fishery Management Council; Public Meeting

AGENCY: National Marine Fisheries Service (NMFS), National Oceanic and Atmospheric Administration (NOAA), Commerce.

ACTION: Notice of a public meeting.

SUMMARY: The Pacific Fishery Management Council's Legislative Committee will hold a public online webinar on June 11, 2014. The meeting is open to the public, but is not intended as a public hearing. Public comments will be taken at the discretion of the Legislative Committee chair as time allows.

DATES: The work session will begin at 9:30 a.m. on Wednesday, June 11, 2014 and will proceed until 3:30 p.m. or until business for the day is completed.

To Attend the Webinar: Join the meeting by visiting this link: http://www.joinwebinar.com. Enter the Webinar ID: 953-727-487. Please enter your name and email address (required). Once you have joined the webinar, choose either your computer's audio or select “Use Telephone.” If you do not select “Use Telephone” you will be connected to audio using your computer's microphone and speakers (VolP). It is recommended that you use a computer headset as GoToMeeting allows you to listen to the meeting using your computer headset and speakers. If you do not have a headset and speakers, you may use your telephone for the audio portion of the meeting by dialing 1-702-489-0008 (not a toll-free number); phone audio access code 559-722-928; audio phone pin shown after joining the webinar.

Technical Information: PC-based attendees must use Windows 7, Vista, or XP. Mac-based attendees must use Mac OS X 10.5 or newer. Mobile attendees must use an iPhone, iPad, Android phone, or Android tablet. You may also send an email to Mr. Kris Kleinschmidt or contact him at (503) 820-2280 for technical assistance.

FOR FURTHER INFORMATION CONTACT: Ms. Jennifer Gilden, telephone: (503) 820-2418.

SUPPLEMENTARY INFORMATION: The primary purpose of the work session is to review the House and Senate discussion drafts for reauthorization the Magnuson-Stevens Fishery Conservation and Management Act and other pertinent information in preparation for the June 2014 Council meeting.

Although non-emergency issues not contained in the Legislative Committee meeting agenda may come before the Legislative Committee for discussion, those issues may not be the subject of formal action during this meeting.

Special Accommodations

This public meeting is physically accessible to people with disabilities. Requests for sign language interpretation or other auxiliary aids should be directed to Mr. Kris Kleinschmidt at (503) 820-2425 (voice), or (503) 820-2299 (fax) at least 5 days prior to the meeting date.

Authority: 16 U.S.C. 1801 et seq.

Dated: May 14, 2014.
Tracey L. Thompson,
Acting Deputy Director, Office of Sustainable Fisheries, National Marine Fisheries Service.

[FR Doc. 2014-11480 Filed 5-16-14; 8:45 am]

BILLING CODE 3510-22-P